DEPARTMENT OF ENERGY

Federal Energy Regulatory Commission

[Docket No. CP12-68-000]

Texas Eastern Transmission, LP; Notice of Application

Take notice that on February 16, 2012, Texas Eastern Transmission, LP (Texas Eastern), PO Box 1642, Houston, Texas 77056 filed an application in the above referenced docket pursuant to section 7(b) of the Natural Gas Act (NGA) for approval to abandon its obligation to provide service on a certain natural gas supply lateral and appurtenances located in federal waters offshore in the Gulf of Mexico near Louisiana. Specifically, Texas Eastern proposes to abandon its obligation to provide service on its undivided interests in a 20-inch diameter supply lateral extending northwesterly approximately 10.7 miles from a production platform located in High Island Block A-568 to a subsea tie-in with the 30-inch diameter High Island Offshore System pipeline in High Island Block A-539, all as more fully set forth in the application which is on file with the Commission and open to public inspection. The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

Any questions concerning this application may be directed to Berk Donaldson, Director, Rates & Certificates, Texas Eastern Transmission, LP, PO Box 1642, Houston, Texas 77251-1642, by telephone at (713) 627-4488 or by email at bdonaldson@spectraenergy.com.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and seven copies of the protest or intervention to the Federal Energy regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: March 13, 2012

Dated: February 21, 2012.
Kimberly D. Bose,
Secretary.

[FR Doc. 2012-4594 Filed 2-27-12; 8:45 am]

BILLING CODE 6717-01-P